DEPARTMENT OF TRANSPORTATION

Office of the Secretary

[Order 2006-7-3; Docket OST-2006-25307]

Notice of Order To Show-Cause; International Air Transport Association Tariff Conference Proceeding

AGENCY: Office of the Secretary, Department of Transportation.

SUMMARY: The Department is directing all interested persons to show cause why it should not issue an order withdrawing its approval under 49 U.S.C. 41309 for an International Air Transport Association (“IATA”) agreement, the Provisions for the Conduct of the IATA Traffic Conferences, insofar as that agreement establishes conferences whereby IATA's member carriers discuss and agree upon passenger fares and cargo rates for U.S.-Australia/Europe markets. If the Department withdraws its approval for the agreement, the agreement will no longer have immunity from the antitrust laws under 49 U.S.C. 41308 for conference discussions of fares and rates for the U.S.-Australia/Europe markets.

DATES: Objections must be submitted on or before August 21. Answers to objections must be filed by September 20.

ADDRESSES: Objections and answers to objections must be filed in Docket number OST-2006-25307 by one of the following means:

(1) By mail to the Docket Management Facility, U.S. Department of Transportation, room PL-401, 400 Seventh Street, SW., Washington, DC 20590-0001.

(2) By hand delivery to room PL-401 on the Plaza level of the Nassif Building, 400 Seventh Street, SW., Washington, DC, between 9 a.m. and 5 p.m., Monday through Friday, except Federal holidays. The telephone number is 202-366-9329.

(3) Electronically through the Web site for the Docket Management System at http://dms.dot.gov. Comments must be filed in Docket OST-2006-25307.

FOR FURTHER INFORMATION CONTACT: John Kiser, Pricing & Multilateral Affairs Division (X-43, Room 6424), U.S. Department of Transportation, 400 Seventh St., SW., Washington, DC 20590, (202) 366-2435; or Thomas Ray, Office of the General Counsel (C-30, Room 4102), U.S. Department of Transportation, 400 Seventh St., SW., Washington, DC 20590, (202) 366-4731.

Dated: July 3, 2006.
Michael W. Reynolds,
Acting Assistant Secretary for Aviation and International Affairs.

[FR Doc. E6-10792 Filed 7-10-06; 8:45 am]

BILLING CODE 4910-62-P